Title 3—

The President

Proclamation 9800 of October 5, 2018

Fire Prevention Week, 2018

By the President of the United States of America

A Proclamation

During Fire Prevention Week, we renew our commitment to preparedness, fire safety awareness, and individual responsibility. We also honor our brave firefighters who have lost their lives in the line of duty and their families, as well as those firefighters who continue to put themselves in harm's way to safeguard our lives and property. Our Nation's firefighters are heroes, and they deserve our deepest respect and gratitude for the selfless service they provide to our communities.

Each year, an average of 1.4 million fires burn in the United States, resulting in thousands of deaths and injuries along with billions of dollars in direct property damage. This year, in the Western and Midwestern parts of the country, wildfires of unprecedented scale and scope have threatened local wildlife and the environment and have severely impacted local and regional economies through their devastating effect on agriculture and tourism industries. In many areas, I have declared the wildfires a major disaster and ordered Federal assistance to supplement State and local recovery efforts. My Administration remains committed to providing help to those affected.

As we mark Fire Prevention Week, all Americans must be vigilant and take precautionary measures to reduce the risk of fire and to protect their families and property. It is critical to look for places in the home where fires can start, identify potential hazards, and take the steps needed to prevent these devastating fires. It is also important to regularly check and maintain smoke alarms, as these devices can provide life-saving warnings if there is a fire in the home. If a smoke alarm rings, it is essential to respond quickly, as you may have only minutes to escape safely. Furthermore, you should at least identify two ways to exit every room, ensuring all doors and windows leading to the outside open easily and are free of clutter. The National Fire Protection Association's “Look. Listen. Learn.” campaign reinforces these basic but essential practices that every American must follow to help ensure fire safety.

This week, we pray for all the Federal, State, local, tribal, and territorial responders who are fighting wildfires and helping our communities recover, as well as for all those who have lost their loved ones or their homes due to these disasters. We also recognize the importance of actively practicing fire safety to help prevent fire-related tragedies from occurring in the future.

NOW, THEREFORE, I, DONALD J. TRUMP, President of the United States of America, by virtue of the authority vested in me by the Constitution and the laws of the United States, do hereby proclaim October 7 through October 13, 2018, as Fire Prevention Week. On Sunday, October 7, 2018, in accordance with Public Law 107-51, the flag of the United States will be flown at half-staff at all Federal office buildings in honor of the National Fallen Firefighters Memorial Service. I call on all Americans to participate in this observance with appropriate programs and activities and by renewing their efforts to prevent fires and their tragic consequences.

IN WITNESS WHEREOF, I have hereunto set my hand this fifth day of October, in the year of our Lord two thousand eighteen, and of the Independence of the United States of America the two hundred and forty-third.

[FR Doc. 2018-22333

Filed 10-10-18; 11:15 am]

Billing code 3295-F9-P